DEPARTMENT OF HEALTH AND HUMAN SERVICES

Centers for Disease Control and Prevention

[Program Announcement 04077]

Rapid Strengthening of Blood Transfusion Services in Selected Countries in Africa and the Caribbean for the Ministries of Health and National Transfusion Services; Notice of Availability of Funds; Amendment

A notice announcing the availability of fiscal year (FY) 2004 funds for cooperative agreements for Rapid Strengthening of Blood Transfusion Services in Selected Countries in Africa and the Caribbean for the Ministries of Health and National Transfusion Services Under the President's Emergency Plan for AIDS Relief was published in the Federal Register December 1, 2003, Volume 68, Number 230, pages 67177-67180. The notice is amended as follows:

Page 67178, first column, section “III.1. Eligible Applicants”, delete the text in this section, and replace with, “Applications may be submitted by the National Blood Transfusion Service or Agency in the 14 targeted countries: Botswana, Cote d'Ivoire, Ethiopia, Haiti, Guyana, Kenya, Mozambique, Namibia, Nigeria, Rwanda, South Africa, Tanzania, Uganda, and Zambia. If there is no National Blood Transfusion Service or Agency, the Ministry of Health may submit the application directly on behalf of it's hospitals and operating units. Organizations that can provide support to official National Blood Transfusion Services or Agencies are guided to Program Announcement 04078, intended to provide resources to such assisting organizations.”

Dated: January 6, 2004.
Edward Schultz,
Acting Director, Procurement and Grants Office, Centers for Disease Control and Prevention.

[FR Doc. 04-532 Filed 1-9-04; 8:45 am]

BILLING CODE 4163-18-P